DEPARTMENT OF TRANSPORTATION

Federal Aviation Administration

Intent To Rule on Application To Impose and Use the Revenue From a Passenger Facility Charge (PFC) at Indianapolis International Airport, Indianapolis, IN

AGENCY: Federal Aviation Administration (FAA), DOT.

ACTION: Notice of intent to rule on application.

SUMMARY: The FAA proposes to rule and invites public comments on the application to impose and use the revenue from a PFC at Indianapolis International Airport under the provisions of the Aviation Safety and Capacity Expansion Act of 1990 (Title IX of the Omnibus Budget Reconciliation Act of 1990) (Pub. L. 101-508) and Part 158 of the Federal Aviation Regulations (14 CFR Part 158).

DATES: Comments must be received on or before February 9, 2001.

ADDRESSES: Comments on this application may be mailed or delivered in triplicate to the FAA at the following address: Federal Aviation Administration, Chicago Airports District Office, 2300 East Devon Avenue, Room 312, Des Plaines, Illinois 60018,

In addition, one copy of any comments submitted to the FAA must be mailed or delivered to Ms. Lisa Cottingham, Treasurer, Indianapolis Airport Authority, at the following address: Indianapolis Airport Authority, Indianapolis International Airport, 2500 S. High School Road, Suite 100, 5th Floor Administration, Indianapolis, Indiana 46241-4941.

Air carriers and foreign air carriers may submit copies of written comments previously provided to the Indianapolis Airport Authority under § 158.23 of Part 158.

FOR FURTHER INFORMATION CONTACT: Mr. Gary K. Regan, Program Manager, Chicago Airports District Office, 2300 East Devon Avenue, Room 312, Des Plaines, Illinois 60018, (847) 294-7525. The application may be reviewed in person at this same location.

SUPPLEMENTARY INFORMATION: The FAA proposes to rule and invites public comment on the application to impose and use the revenue from a PFC at Indianapolis International Airport under the provisions of the Aviation Safety and Capacity Expansion Act of 1990 (Title IX of the Omnibus Budget Reconciliation Act of 1990) (Pub. L. 101-508) and Part 158 of the Federal Aviation Regulations (14 CFR Part 158).

On December 20, 2000, the FAA determined that the application to impose and use the revenue from a PFC submitted by the Indianapolis Airport Authority was substantially complete within the requirements of § 158.25 of Part 158. The FAA will approve or disapprove the application, in whole or in part, no later than March 26, 2001.

The following is a brief overview of the application.

PFC application number: 01-03-C-00-IND.

Level of the proposed PFC: $4.50.

Proposed charge effective date: April 1, 2002.

Proposed charge expiration date: April 1, 2022.

Total estimated PFC revenue: $444,022,707.00.

Brief description of proposed projects:

Impose Only: Construct Midfield Terminal Complex.

Impose and Use: Preparation costs of PFC applications.

Class or classes of air carriers which the public agency has requested not be required to collect PFCs: On-demand FAR Part 135 air taxi operators with less than 15 seats.

Any person may inspect the application in person at the FAA office listed above under FOR FURTHER INFORMATION CONTACT.

In addition, any person may, upon request, inspect the application, notice and other documents germane to the application in person at the Indianapolis International Airport Authority.

Issued in Des Plaines, Illinois on December 22, 2000.
Benito De Leon,
Manager, Planning/Programming Branch, Airports Division, Great Lakes Region.

[FR Doc. 01-715 Filed 1-9-01; 8:45 am]

BILLING CODE 4910-13-M